DEPARTMENT OF COMMERCE

International Trade Administration

[A-201-836]

Light-Walled Rectangular Pipe and Tube From Mexico: Final Results of Changed Circumstances Review

AGENCY: Enforcement and Compliance, International Trade Administration, Department of Commerce.

SUMMARY: The Department of Commerce (Commerce) continues to find that Perfiles LM, S.A. de C.V. (Perfiles) is the successor-in-interest to Perfiles y Herrajes LM, S.A. de C.V. (Perfiles y Herrajes) for purposes of determining antidumping duty cash deposits and liabilities.

DATES: Applicable March 29, 2018.

FOR FURTHER INFORMATION CONTACT: Madeline Heeren, AD/CVD Operations, Office VI, Enforcement and Compliance, International Trade Administration, U.S. Department of Commerce, 1401 Constitution Avenue NW, Washington, DC 20230; telephone: (202) 482-9179.

SUPPLEMENTARY INFORMATION:

Background

On November 13, 2017, Commerce initiated this CCR and published the notice of expedited preliminary results, determining that Perfiles is the successor-in-interest to Perfiles y Herrajes.¹ In the Initiation and Expedited Preliminary Results, interested parties were provided an opportunity to comment and request a public hearing regarding our preliminary finding that Perfiles is the successor-in-interest to Perfiles y Herrajes. We received no comments from interested parties nor was a public hearing requested.

¹ See Light-Walled Rectangular Pipe and Tube from Mexico: Initiation and Expedited Preliminary Results of Changed Circumstances Review, 82 FR 54322 (November 17, 2017) (Initiation and Expedited Preliminary Results).

Scope of the Order

The merchandise subject to this order is certain welded carbon-quality light-walled steel pipe and tube, of rectangular (including square) cross section, having a wall thickness of less than 4 mm.

The term carbon-quality steel includes both carbon steel and alloy steel which contains only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium.

The description of carbon-quality is intended to identify carbon-quality products within the scope. The welded carbon-quality rectangular pipe and tube subject to this order is currently classified under the Harmonized Tariff Schedule of the United States (HTSUS) subheadings 7306.61.50.00 and 7306.61.70.60. While HTSUS subheadings are provided for convenience and customs purposes, our written description of the scope of this order is dispositive.

Final Results of the Changed Circumstances Review

For the reasons stated in the Initiation and Expedited Preliminary Results, and because we received no comments from interested parties, Commerce continues to find that Perfiles is the successor-in-interest to Perfiles y Herrajes. As a result of this determination, we find that Perfiles should receive the antidumping cash deposit rate applicable to Perfiles y Herrajes. Consequently, Commerce will instruct U.S. Customs and Border Protection to suspend liquidation of all shipments of subject merchandise produced or exported by Perfiles and entered, or withdrawn from warehouse, for consumption on or after the publication date of this notice in the Federal Register at 0.00 percent, which is the current antidumping duty cash-deposit rate for Perfiles y Herrajes.² This cash deposit requirement shall remain in effect until further notice.

² Perfiles y Herrajes was assigned a 0.00 percent margin in the 2013-2014 administrative review of the antidumping duty order on LWRPT from Mexico. See Light-Walled Rectangular Pipe and Tube from Mexico: Final Results of Antidumping Duty Administrative Review; 2013-2014; 80 FR 69941 (November 12, 2015).

We are issuing this determination and publishing these final results and notice in accordance with sections 751(b)(1) and 777(i)(1) and (2) of the Act, as amended, and 19 CFR 351.216 and 351.221(c)(3).

Dated: March 23, 2018.
Gary Taverman,
Deputy Assistant Secretary for Antidumping and Countervailing Duty Operations, performing the non-exclusive functions and duties of the Assistant Secretary for Enforcement and Compliance.

[FR Doc. 2018-06345 Filed 3-28-18; 8:45 am]

BILLING CODE 3510-DS-P